DEPARTMENT OF TRANSPORTATION

Federal Transit Administration

Federal Railroad Administration

Fiscal Year 2017 Positive Train Control Grant Program Project Selections

AGENCY: Federal Transit Administration (FTA), Federal Railroad Administration (FRA), DOT.

ACTION: Notice.

SUMMARY: The U.S. Department of Transportation's (DOT) Federal Transit Administration (FTA) and Federal Railroad Administration (FRA) announce the selection of projects for the Fiscal Year (FY) 2017 Positive Train Control (PTC) Grant Program. A total of $197.01 million in the PTC grant funding, authorized under the Fixing America's Surface Transportation (FAST) Act, will be provided to 17 projects in 13 states. On July 29, 2016, FTA and FRA published a Notice of Funding Opportunity (NOFO) announcing the availability of Federal funding for the PTC Grant Program. These funds will provide financial assistance to states, local governments, and public agencies for the implementation of positive train control systems to improve safety. Funds allocated in this announcement must be obligated in a grant by September 30, 2018.

FOR FURTHER INFORMATION CONTACT: Recipients selected for competitive funding in Table 1 should contact the appropriate FTA Regional Office for information regarding applying for the funds or program-specific information. A list of FTA's Regional Offices can be found at www.fta.dot.gov. For questions regarding PTC technology or statutory and regulatory requirements, please contact Mr. Devin Rouse, Program Manager, Federal Railroad Administration (phone: (202) 493-6185, email: devin.rouse@dot.gov). A TDD is available at 1-800-877-8339 (TDD/FIRS).

SUPPLEMENTARY INFORMATION: In response to the NOFO, FTA and FRA received 27 proposals from 16 states requesting $455 million in Federal funds, indicating significant demand for funding to expedite the implementation of PTC systems. Project proposals were evaluated based on each applicant's responses to the program evaluation criteria outlined in the NOFO.

FTA is funding the 17 projects shown in Table 1 for a total of $197.01 million. Recipients selected for competitive funding should work with their FTA Regional Office to submit a grant application in FTA's transit award management system (TrAMS) for the projects identified in the attached table to quickly obligate funds. As funds must be obligated by September 30, 2018, all grant applications must be submitted to FTA by June 30, 2018. Grant applications must include the eligible activities applied for in the original project application. Funds must be used consistent with the competitive proposal and for the eligible capital purposes established in the NOFO.

In cases where the award amount is less than the proposer's total requested amount, recipients must submit grant applications to fund the scalable project option as described in the project's application. If the award amount does not correspond to the scalable option, for example due to a cap on the award amount, the recipient should work with the FTA Regional Office to reduce scope or scale the project so that a complete phase or project is accomplished. Recipients are reminded that program requirements such as cost sharing or local match can be found in the NOFO. A discretionary project identification number has been assigned to each project for tracking purposes and must be used in the TrAMS application.

On October 16, 2008, Congress enacted the Railroad Safety Improvement Act of 2008 (RSIA), which required Class 1 railroad main lines and commuter railroad passenger service to fully implement positive train control by December 31, 2015. In the Positive Train Control Enforcement and Implementation Act of 2015, Congress extended the deadline for implementing positive train control to December 31, 2018. FTA will streamline the grant application process to help commuter railroads meet the approaching deadline. FTA is providing pre-award authority and will reimburse eligible project costs on successful projects consistent with the selected project proposals. The eligibility for reimbursement using pre-award authority is contingent upon the project meeting other Federal requirements, such as environmental requirements, prior to costs being incurred. FTA is not applying its regulation, 49 CFR part 633 Project Management Oversight to this program. Furthermore, FTA waives the requirement that projects be listed in the Statewide Transportation Improvement Plan (STIP). Department of Labor (DOL) certification is also not required. The above waivers are only applicable to funds awarded in this notice.

Post-award reporting requirements include submission of the Federal financial report and milestone progress reports in TrAMS as appropriate (see FTA Circular 5010.1E, Award Management Requirements). Unless specifically waived, recipients must comply with all applicable Federal statutes, regulations, executive orders, FTA circulars, and other Federal requirements in carrying out the project supported by the FTA grant, including FTA's Buy America requirements.

Recipients must follow all third-party procurement guidance as described in FTA Circular 4220.1F Third Party Contracting Guidance.

Issued in Washington, DC, this 3rd day of November 2017.
K. Jane Williams,
Acting Administrator, Federal Transit Administration.
Heath Hall,
Acting Administrator, Federal Railroad Administration.

Table 1—Fiscal Year 2017 Positive Train Control Project Selections
State | Recipient | Project ID | Project description | Grant amount
CA | Peninsula Corridor Joint Powers Board (JPB) | D2017-PTCP-014 | This project will dual equip seven Caltrain trains with Incremental Train Control System (ITCS) and Interoperable Electronic Train Management System (I-ETMS) to provide service for approximately 32 miles from south of San Jose to Gilroy, CA on Union Pacific Railroad (UPRR) territory | $21,680,000
CA | Southern California Regional Rail Authority (SCRRA) | D2017-PTCP-015 | This project will develop, test, and deploy tools and processes to improve the reliability, efficiency, and security of SCRRA's Interoperable Electronic Train Management System (I-ETMS) PTC with an upgrade from a non-vital to a vital overlay system across 249 miles in the greater Los Angeles region of Southern California | 3,200,000
FL | South Florida Regional Transportation Authority (SFRTA) | D2017-PTCP-006 | This project will complete the installation of the established Interoperable Electronic Train Management System (I‐ETMS) PTC technology consisting of wayside interface units, near side station controls, base radio stations, a back office server, on‐board PTC kits, and a crew training simulator on the South Florida Rail Corridor | 31,633,176
FL | Florida Department of Transportation (FDOT) | D2017-PTCP-007 | This project will implement the Interoperable Electronic Train Management System (I-ETMS) computer-aided dispatch system, track database, and communication network, along 110 miles of the Central Florida Rail Corridor | 1,841,153
IL | Commuter Rail Division of the RTA (Metra) | D2017-PTCP-008 | This project comprises three subprojects that include the installation of wayside PTC signals, reconfiguration of signals, and upgrade of existing PTC Automatic Block Signaling systems on Metra's Milwaukee District West and North lines in Illinois | 20,168,000
IL | Illinois Department of Transportation (IDOT) | D2017-PTCP-009 | This project will complete the design, delivery, installation, testing, and certification of a fully integrated Interoperable Electronic Train Management System (I-ETMS) PTC on two contractual routes for Amtrak's use that comprise 14.7 route miles of Terminal Railroad Association of St. Louis (TRRA) right-of-way into and out of St. Louis, Missouri | 18,869,888
MA | Massachusetts Bay Transportation Authority (MBTA) | D2017-PTCP-001 | This project will include the installation of a back office system for PTC that consists of an existing Cab Signaling System (CSS) with Automatic Train Control (ATC) supplemented by the addition of the latest revision to the Advanced Civil Speed Enforcement System II (ACSES II) for the MBTA | 7,815,963
MD | Maryland Transit Administration (MTA) | D2017-PTCP-004 | This project includes installing Interoperable Electronic Train Management System (I-ETMS) PTC within the Northeast Corridor along MARC's tracks, and equipping 11 MARC 2A cab cars with I-ETMS. The work will be on the Penn Line between Washington, D.C. Union Station and the northern limits of MARC service at Perryville, MD, a total distance of approximately 77 directional miles | 9,440,000
MO | Missouri Department of Transportation (MoDOT) | D2017-PTCP-012 | This project will design, deliver, install, test, and certify a fully integrated and functional Interoperable Electronic Train Management System (I-ETMS) PTC over approximately 8.5 route miles of Kansas City Terminal Railway right-of-way where Amtrak operates in the Kansas City metropolitan region of Missouri | 12,024,877
NJ | New Jersey Transit Corporation (NJ Transit) | D2017-PTCP-002 | This project will implement New Jersey Transit's PTC Phase III, which involves the purchase of onboard equipment kits, along with the installation, testing, and commissioning of the equipment on a total of 440 locomotives, electric mobile units, and cab cars | 10,000,000
NM | Rio Metro Regional Transit District (Rio Metro) | D2017-PTCP-010 | This project will include the installation of the Interoperable Electronic Train Management System (I-ETMS) PTC onboard technology on nine locomotives | 3,600,000
NY | New York State Department of Transportation (NYSDOT) | D2017-PTCP-003 | This project will implement Advanced Civil Speed Enforcement System (ACSES) PTC on the Amtrak controlled section of the Empire Corridor Hudson Line, a Federally Designated High Speed Rail Corridor, which spans multiple jurisdictions along its 94 miles from Poughkeepsie to Hoffmans, New York | 33,749,974
OR | Oregon Department of Transportation (ODOT) | D2017-PTCP-016 | This project will install and test PTC equipment on two Talgo Series 8 trainsets owned by ODOT and operated by Amtrak for the regional Amtrak Cascades intercity passenger rail service connecting Eugene, Oregon to Vancouver, British Columbia | 1,200,000
OR | Tri-County Metropolitan Transportation District of Oregon (TriMet) | D2017-PTCP-017 | This project will implement two PTC safety modifications on the 15 mile long Westside Express (WES) commuter rail corridor from Wilsonville to Beaverton, Oregon. The first modification is designed to positively stop a train in advance of a malfunctioning grade crossing, and the second modification will stop a train prior to a work zone or limit speed throughout the work zone | 2,704,000
PA | Southeastern Pennsylvania Transportation Authority (SEPTA) | D2017-PTCP-005 | This project will install the Advanced Civil Speed Enforcement System (ACSES II) PTC System along a 3-mile portion of restored Regional Rail service from Elwyn to Wawa, Pennsylvania, and deploy an onboard survey map software that contains the physical characteristics of the railroad that dictate train operating speeds throughout SEPTA's rail network | 5,800,000
TX | Capital Metropolitan Transportation Authority (Capital Metro) | D2017-PTCP-011 | This project will install the PTC fiber backbone for an Enhanced Automatic Train Control (E-ATC) PTC system on Capital Metro's approximately 33 miles of its commuter rail territory in Austin, TX | 9,762,969
UT | Utah Transit Authority (UTA) | D2017-PTCP-013 | This project involves the design and testing of a two-step No-Code Proceed system to assure the safe operation of UTA's FrontRunner Enhanced Automated Train Control (E-ATC) PTC on its two mainline track segments from Provo to Ogden and Ogden to Pleasant View, Utah | 3,520,000
Total |  |  |  | $197,010,000

[FR Doc. 2017-24364 Filed 11-8-17; 8:45 am]

BILLING CODE P